DEPARTMENT OF DEFENSE

Office of the Secretary

[Docket ID DOD-2018-OS-0041]

Notice of Availability for Finding of No Significant Impact for the Environmental Assessment Addressing Hazardous Materials Warehouses and Gas Cylinder Sheds at Naval Station Norfolk and Norfolk Naval Shipyard, Virginia

AGENCY: Defense Logistics Agency (DLA), Department of Defense.

ACTION: Notice of availability (NOA).

SUMMARY: This NOA documents DLA's decision to proceed with the proposed action to construct and operate hazardous materials warehouses and gas cylinder sheds at Naval Station Norfolk and Norfolk Naval Shipyard, Virginia following the completion of an Environmental Assessment (EA). The EA was prepared as required under the National Environmental Policy Act (NEPA) of 1969.

FOR FURTHER INFORMATION CONTACT: Ira Silverberg at 571-767-0705 during normal business hours Monday through Friday, from 8:00 a.m. to 4:30 p.m. (EDT) or by email: ira.silverberg@dla.mil.

SUPPLEMENTARY INFORMATION: DLA completed an EA to address the potential environmental consequences associated with the Proposed Action. This Finding of No Significant Impact (FONSI) incorporates the EA by reference, summarizes the results of the analyses in the EA, and documents DLA's decision to construct and operate HAZMAT warehouses and gas cylinder sheds at NAVSTA Norfolk and NNSY, Virginia. The EA considered two alternatives for the Proposed Action: Alternative 1 (relocation and construction of new HAZMAT facilities) and Alternative 2 (renovation and new construction at the existing HAZMAT facilities). DLA selected Alternative 1 as the Preferred Alternative. DLA has determined that the Proposed Action is not a major federal action that significantly affects the quality of the human environment within the context of NEPA and that no significant impacts on the human environment are associated with this decision.

Navy consulted with the Virginia State Historic Preservation Officer (SHPO) at the Virginia Department of Historic Resources. The SHPO concurred that the proposed undertaking (Alternative 1) would have no adverse effect on historic resources, on the condition that the Virginia Department of Historic Resources has the opportunity to review the proposed design of the facilities once the 35 percent drawings are available. Navy also submitted a Federal Coastal Consistency Determination to the Virginia Department of Environmental Quality, which concurred that the proposed project (Alternative 1) would be consistent to the maximum extent practicable with the Virginia Coastal Zone Management Program provided all applicable permits and approvals are obtained. Correspondence with the SHPO and Virginia Department of Environmental Quality is in Appendices B and C of the revised EA, respectively.

On July 12, 2018, DLA published a NOA in the Federal Register announcing the publication of the Environmental Assessment (EA) Addressing Hazardous Materials (HAZMAT) Warehouses and Gas Cylinder Sheds at Naval Station (NAVSTA) Norfolk and Norfolk Naval Shipyard (NNSY), Virginia. The EA was available for a 30-day public comment period that ended August 13, 2018. No public comments were received during the 30-day public comment period. The revised EA is available electronically at the Federal eRulemaking Portal at http://www.regulations.gov within Docket ID: DOD-2018-OS-0041.

Purpose and Need for Action: The purpose of the Proposed Action is to ensure HAZMAT at DLA Distribution Norfolk, Virginia, which actively supports HAZMAT missions for NAVSTA Norfolk and NNSY from a warehouse and a gas cylinder shed at each location, is stored in a fire-and life-safe, regulation-compliant, and organized manner for improved efficiency and safety during operations. The Proposed Action is needed because the existing HAZMAT facilities are antiquated (i.e., HAZMAT warehouses are 1940s-era) and not properly sized for their current or future mission demands; have extensive fire- and life-safety hazards, poor utility conditions, inadequate spill containment, and inefficient storage area configurations; and will soon be in conflict with the NAVSTA Norfolk Master Plan and NNSY Installation Development Plan. The existing HAZMAT warehouses have insufficient egress, noncompliant firewalls, inadequate fire suppression and alarm systems, and poor ventilation. The existing gas cylinder sheds are not fire suppression compliant, and the gas cylinder shed at NAVSTA Norfolk is near condemnation due to structural degradation and loose siding.

Proposed Action and Alternatives: Under Alternative 1 (i.e., the Preferred Alternative), the DLA-occupied portions of the HAZMAT warehouses would be vacated and returned to the Navy for reuse. Also, the gas cylinder sheds would be demolished and the properties would be returned to the Navy for reuse. The functions served by these vacated and demolished facilities would be replaced through construction of new HAZMAT warehouses, gas cylinder sheds, and associated infrastructure. At NAVSTA Norfolk, the western portion of CEP-156, Gate House CEP-180, and pavement would be demolished and replaced by a new HAZMAT warehouse, gas cylinder shed, Gate House, and pavement. At NNSY, a portion of the Dean Harwood Parking Lot would be demolished to make way for a new HAZMAT warehouse, gas cylinder shed, and pavement. Approximately 479 parking spaces would be displaced at the Dean Harwood Parking Lot; however, vehicle parking would be compensated by reorganization of existing parking lots and improvement and construction of some combination of several nearby lots (i.e., Shed 1567 lot, Lot 33, the Wedge, and the Bachelor Enlisted Quarters lot) that would be covered with compacted gravel and reorganized to provide replacement parking spaces. Although the final configuration and dimensions of the proposed replacement parking lots would not be known until the time of final design, the replacement lots would be expected to provide up to approximately 479 parking spaces.

Under Alternative 2, DLA would resize the DLA-occupied portion of the NAVSTA Norfolk HAZMAT warehouse to meet square footage requirements, renovate the DLA-occupied portions of the NAVSTA Norfolk and NNSY HAZMAT warehouses, and demolish and replace both gas cylinder sheds and pavement areas. The HAZMAT warehouses would be properly configured for optimized storage capacity and upgraded in accordance with fire- and life-safety requirements and per the facility condition assessment upgrade recommendations for each site.

Description of the No Action Alternative: Under the No Action Alternative, DLA would continue to store HAZMAT in the existing HAZMAT warehouses and gas cylinder sheds on NAVSTA Norfolk and NNSY. Shed X-380 (gas cylinder shed at NAVSTA Norfolk) would continue to degrade and HAZMAT storage would reach overcapacity at the NNSY HAZMAT facilities due to projected future workload increases. The HAZMAT facilities would continue to be improperly sized for their current and future mission demands; have extensive fire- and life-safety hazards, poor utility conditions, insufficient ventilation, and inefficient storage area configurations; and soon be in conflict with the NAVSTA Norfolk Master Plan and NNSY Installation Development Plan. The No Action Alternative would not meet the purpose of and need for the Proposed Action.

Potential Environmental Impacts: No significant effects on environmental resources would be expected from the Proposed Action. Insignificant, adverse effects on air quality, water resources, geological resources, cultural resources, biological resources, land use and visual resources, noise, infrastructure, transportation, public health and safety, and hazardous materials and wastes would be expected. Insignificant, beneficial effects on water resources, geological resources, land use and visual resources, noise, infrastructure, public health and safety, hazardous materials and wastes, and socioeconomics would be expected. No impacts on airspace management/safety and environmental justice would be expected. Details of the environmental consequences are discussed in the EA, which is hereby incorporated by reference.

Determination: DLA has determined that implementation of the Proposed Action will not have a significant effect on the human environment. Human environment was interpreted comprehensively to include the natural and physical environment and the relationship of people with that environment. Specifically, no highly uncertain or controversial impacts, unique or unknown risks, or cumulatively significant effects were identified. Implementation of the Proposed Action will not violate any federal, state, or local laws. Based on the results of the analyses performed during preparation of the EA and lack of comments received during the public comment period, Mr. Gordon B. Hackett III, Director, DLA Installation Management, concludes that implementation of the Proposed Action at NAVSTA Norfolk and NNSY does not constitute a major federal action significantly affecting the quality of the human environment within the context of NEPA. Therefore, an environmental impact statement for the Proposed Action is not required.

Dated: March 8, 2019.
Aaron T. Siegel,
Alternate OSD Federal Register Liaison Officer, Department of Defense.

[FR Doc. 2019-04667 Filed 3-13-19; 8:45 am]

BILLING CODE 5001-06-P